DEPARTMENT OF COMMERCE

International Trade Administration

[A-427-801, A-428-801, A-475-801, A-588-804, A-412-801]

Ball Bearings and Parts Thereof From France, Germany, Italy, Japan, and the United Kingdom: Extension of Time Limit for Preliminary Results of Antidumping Duty Administrative and Changed-Circumstances Reviews

AGENCY: Import Administration, International Trade Administration, Department of Commerce.

DATES: Effective Date: March 22, 2011.

FOR FURTHER INFORMATION CONTACT: Yang Jin Chun, AD/CVD Operations, Office 5, Import Administration, International Trade Administration, U.S. Department of Commerce, 14th Street and Constitution Avenue, NW., Washington, DC 20230; telephone: (202) 482-5760.

SUPPLEMENTARY INFORMATION:

Background

At the request of interested parties, the Department of Commerce (the Department) initiated administrative reviews of the antidumping duty orders on ball bearings and parts thereof from France, Germany, Italy, Japan, and the United Kingdom for the period May 1, 2009, through April 30, 2010. See Initiation of Antidumping and Countervailing Duty Administrative Reviews and Requests for Revocation in Part, 75 FR 37759 (June 30, 2010). On November 12, 2010, we rescinded in part the administrative reviews of the antidumping duty orders on ball bearings and parts thereof from France, Germany, Italy, Japan, and the United Kingdom. See Ball Bearings and Parts Thereof From France, Germany, Italy, Japan, and the United Kingdom: Partial Rescission of Antidumping Duty Administrative Review, 75 FR 69402 (November 12, 2010). On January 14, 2011, we extended the due date for the completion of the preliminary results of reviews by 45 days. See Ball Bearings and Parts Thereof From France, Germany, Italy, Japan, and the United Kingdom: Extension of Time Limit for Preliminary Results of Antidumping Duty Administrative Reviews, 76 FR 2647 (January 14, 2011). On February 24, 2011, we also initiated the changed-circumstances review of the antidumping duty order on ball bearings and parts thereof from Germany and announced our intent to conduct the changed-circumstances review in the context of the administrative review. See Ball Bearings and Parts Thereof From Germany: Initiation of Antidumping Duty Changed-Circumstances Review, 76 FR 10335 (February 24, 2011). The preliminary results of the reviews are currently due no later than March 17, 2011.

Extension of Time Limit for Preliminary Results

Section 751(a)(3)(A) of the Tariff Act of 1930, as amended (the Act), requires the Department to complete the preliminary results within 245 days after the last day of the anniversary month of an order for which a review is requested and the final results within 120 days after the date on which the preliminary results are published. If it is not practicable to complete the review within these time periods, section 751(a)(3)(A) of the Act allows the Department to extend the time limit for the preliminary results to a maximum of 365 days after the last day of the anniversary month.

We determine that it is not practicable to complete the preliminary results of these reviews within the current time limit because of the number of companies and complexity of various issues. Therefore, we are extending the time period for issuing the preliminary results of these reviews by 32 days until April 18, 2011.

This notice is published in accordance with section 751(a)(3)(A) of the Act and 19 CFR 351.213(h)(2).

Dated: March 16, 2011.
Christian Marsh,
Deputy Assistant Secretary for Antidumping and Countervailing Duty Operations.

[FR Doc. 2011-6746 Filed 3-21-11; 8:45 am]

BILLING CODE 3510-DS-P